DEPARTMENT OF TRANSPORTATION

Pipeline and Hazardous Materials Safety Administration

[Docket No. PHMSA-2011-0177]

Pipeline Safety: Potential for Damage to Pipeline Facilities Caused by Flooding

AGENCY: Pipeline and Hazardous Materials Safety Administration (PHMSA), DOT.

ACTION: Notice; Issuance of Advisory Bulletin.

SUMMARY: PHMSA is issuing this advisory bulletin to all owners and operators of gas and hazardous liquid pipelines to communicate the potential for damage to pipeline facilities caused by severe flooding. This advisory includes actions that operators should consider taking to ensure the integrity of pipelines in case of flooding.

ADDRESSES: This document can be viewed on the Office of Pipeline Safety home page at: http://ops.dot.gov.

FOR FURTHER INFORMATION CONTACT: Operators of pipelines subject to regulation by PHMSA should contact the appropriate PHMSA Regional Office. The PHMSA Regional Offices and their contact information are as follows:

• Eastern Region: Connecticut, Delaware, District of Columbia, Maine, Maryland, Massachusetts, New Hampshire, New Jersey, New York, Pennsylvania, Rhode Island, Vermont, Virginia, and West Virginia, call 609-989-2171.

• Southern Region: Alabama, Florida, Georgia, Kentucky, Mississippi, North Carolina, Puerto Rico, South Carolina, and Tennessee, call 404-832-1140.

• Central Region: Illinois, Indiana, Iowa, Kansas, Michigan, Minnesota, Missouri, Nebraska, North Dakota, Ohio, South Dakota, and Wisconsin, call 816-329-3800.

• Southwest Region: Arkansas, Louisiana, New Mexico, Oklahoma, and Texas, call 713-272-2859.

• Western Region: Alaska, Arizona, California, Colorado, Hawaii, Idaho, Montana, Nevada, Oregon, Utah, Washington, and Wyoming, call 720-963-3160.

Intrastate pipeline operators should contact the appropriate State pipeline safety authority. A list of State pipeline safety authorities is provided at: http://www.napsr.org/managers/napsr_state_program_managers2.htm.

SUPPLEMENTARY INFORMATION:

I. Background

Section 192.613(a) of the Pipeline Safety Regulations (49 CFR parts 190-199) states that “[e]ach operator shall have a procedure for continuing surveillance of its facilities to determine and take appropriate action concerning changes in class location, failures, leakage history, corrosion, substantial changes in cathodic protection requirements, and other unusual operating and maintenance conditions.” Section 192.613(b) further states that “[i]f a segment of pipeline is determined to be in unsatisfactory condition but no immediate hazard exists, the operator shall initiate a program to recondition or phase out the segment involved, or, if the segment cannot be reconditioned or phased out, reduce the maximum allowable operating pressure in accordance with § 192.619 (a) and (b).”

Likewise, § 195.401(b)(1) of the Pipeline Safety Regulations states that “[w]henever an operator discovers any condition that could adversely affect the safe operation of its pipeline system, it must correct the condition within a reasonable time. However, if the condition is of such a nature that it presents an immediate hazard to persons or property, the operator may not operate the affected part of the system until it has corrected the unsafe condition.” Section 195.401(b)(2) further states that “[w]hen an operator discovers a condition on a pipeline covered under [the integrity management requirements in] § 195.452, the operator must correct the condition as prescribed in § 195.452(h).”

Severe flooding is the kind of unusual operating condition that can adversely affect the safe operation of a pipeline and require corrective action under §§ 192.613(a) and 195.401(b). In October 1994, major flooding along the San Jacinto River near Houston, Texas, resulted in eight pipeline failures and compromised the integrity of several other pipelines. Similar flooding has occurred along the Yellowstone River in the past few months. While the cause of the accident is still under investigation, ExxonMobil Pipeline Company experienced a pipeline failure near Laurel, Montana, on July 1, 2011, resulting in the release of crude oil into the Yellowstone River.

Severe flooding and other conditions that can adversely affect the safe operation of a pipeline may also trigger the reporting requirements in Part 191 and Part 195 or applicable state reporting requirements. PHMSA requires operators to submit telephonic and written reports when natural gas or hazardous liquid releases occur that exceed certain threshold requirements. PHMSA also requires operators to submit reports of safety-related conditions involving potentially unsafe conditions on natural gas and hazardous liquid pipelines (§§ 191.23 and 195.55).

Advisory Bulletin (ADB-11-04)

To: Owners and operators of gas and hazardous liquid pipeline systems.

Subject: Potential for damage to pipeline facilities caused by severe flooding.

Advisory: Severe flooding can adversely affect the safe operation of a pipeline. Operators need to direct their resources in a manner that will enable them to determine the potential effects of flooding on their pipeline systems. Operators are urged to take the following actions to prevent and mitigate damage to pipeline facilities and ensure public and environmental safety in areas affected by flooding:

1. Evaluate the accessibility of pipeline facilities that may be in jeopardy, such as valve settings, which are needed to isolate water crossings or other sections of a pipeline.

2. Extend regulator vents and relief stacks above the level of anticipated flooding, as appropriate.

3. Coordinate with emergency and spill responders on pipeline location and condition. Provide maps and other relevant information to such responders.

4. Coordinate with other pipeline operators in the flood area and establish emergency response centers to act as a liaison for pipeline problems and solutions.

5. Deploy personnel so that they will be in position to take emergency actions, such as shut down, isolation, or containment.

6. Determine if facilities that are normally above ground (e.g., valves, regulators, relief sets, etc.) have become submerged and are in danger of being struck by vessels or debris; if possible, such facilities should be marked with an appropriate buoy with Coast Guard approval.

7. Perform frequent patrols, including appropriate overflights, to evaluate right-of-way conditions at water crossings during flooding and after waters subside. Determine if flooding has exposed or undermined pipelines as a result of new river channels cut by the flooding or by erosion or scouring.

8. Perform surveys to determine the depth of cover over pipelines and the condition of any exposed pipelines, such as those crossing scour holes. Where appropriate, surveys of underwater pipe should include the use of visual inspection by divers or instrumented detection. Information gathered by these surveys should be shared with affected landowners. Agricultural agencies may help to inform farmers of the potential hazard from reduced cover over pipelines.

9. Ensure that line markers are still in place or replaced in a timely manner. Notify contractors, highway departments, and others involved in post-flood restoration activities of the presence of pipelines and the risks posed by reduced cover.

If a pipeline has suffered damage, is shut-in, or is being operated at a reduced pressure as a precautionary measure as a result of flooding, the operator should advise the appropriate PHMSA Regional Office or State pipeline safety authority before returning the line to service, increasing its operating pressure, or otherwise changing its operating status. PHMSA or the State will review all available information and advise the operator, on a case-by-case basis, whether and to what extent a line can safely be returned to full service.

Issued in Washington, DC, on July 22, 2011.
Jeffrey D. Wiese,
Associate Administrator for Pipeline Safety.

[FR Doc. 2011-19029 Filed 7-26-11; 8:45 am]

BILLING CODE 4910-60-P